DEPARTMENT OF HEALTH AND HUMAN SERVICES

Centers for Disease Control and Prevention

[60 Day-11-11AD]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Carol E. Walker, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Surveys of State, Tribal, Local, and Territorial (STLT) Governmental Health Agencies—New—Office of the Director, Office for State, Tribal Local and Territorial Support (OSTLTS)-(proposed), Centers for Disease Control and Prevention (CDC).

Background and Brief Description

CDC's mission includes addressing the leading causes of disease, injury, and disability in the United States, including a focus on tobacco control; improving nutrition, physical activity, and food safety; reducing healthcare-associated infections; preventing motor vehicle injuries; preventing teen pregnancy; and preventing HIV. CDC's priorities for approaching improvements to public health include—strengthening surveillance, epidemiology, and laboratory science; better supporting efforts in states and communities; and pursuing policies that have an impact. As such, CDC's relationship with State, local, tribal and territorial (STLT) governmental health officials is key to its emergency preparedness, health promotion and disease prevention responsibilities.

CDC is requesting a three-year approval for a generic clearance to assess information related to a myriad of public health issues that affect STLT health agencies. Information will be used to assess situational awareness of current public health emergencies, make decisions that will affect planning, response and recovery activities of subsequent emergencies, and fill gaps in knowledge that will strengthen surveillance, epidemiology, and laboratory science; better supporting efforts in states and communities. CDC will conduct short surveys, across a range of public health topics, using standard questionnaire administration approaches (e.g., phone, web, e-mail, and paper, in person).

CDC estimates that it will conduct up to 50 of queries with State, territorial or tribal health officials, 12 queries with county health officials, and 4 of queries with municipal health officials each year. Ninety percent of queries will be web-based, with remaining in-person or paper-based surveys. The total annualized burden hours of 40,980 is based on the following estimates.

Estimated Annualized Burden Hours
Type of respondent | Number of respondents | Number of responses per respondent | Average burden per respondent (in hours) | Total burden hours
State, Territorial, or Tribal Health Officials | 50 | 50 | 1 | 2,500
County Health Officials | 1,600 | 12 | 2 | 38,400
Municipal/City Health Officials | 20 | 4 | 1 | 80
Total |  |  |  | 40,980

Dated: October 15, 2010.
Catina Conner,
Acting Reports Clearance Officer, Centers for Disease Control and Prevention.

[FR Doc. 2010-26577 Filed 10-21-10; 8:45 am]

BILLING CODE 4163-18-P